DEPARTMENT OF COMMERCE

National Oceanic and Atmospheric Administration

[RTID 0648-XD433]

Pacific Fishery Management Council; Public Meetings

AGENCY: National Marine Fisheries Service (NMFS), National Oceanic and Atmospheric Administration (NOAA), Commerce.

ACTION: Notice of public meetings.

SUMMARY: The Pacific Fishery Management Council's (Pacific Council) Groundfish Advisory Subpanel (GAP), Groundfish Management Team (GMT), Ecosystem Working Group (EWG), Salmon Technical Team (STT), Habitat Committee (HC), and Salmon Advisory Subpanel (SAS) will hold online meetings to discuss items on the Pacific Council's November Council meeting agenda as detailed in the SUPPLEMENTARY INFORMATION below. These meetings are open to the public.

DATES: The GAP meeting, including a joint session with the GMT and EWG, will be held Monday, October 23, 2023, from 12 p.m. to 4 p.m., Pacific daylight time (PDT), or until business is completed.

The STT meeting will be held Tuesday, October 24, from 9 a.m. to 3 p.m., PDT, or until business is completed.

The HC meeting will be held Tuesday, October 24, from 8:30 a.m. to 4:30 p.m., and Wednesday, October 25, from 1:30 p.m. to 4:30 p.m., until business is completed each day.

The SAS meeting will be held Tuesday, October 31, 2023, from 9 a.m. to 3 p.m., PDT, or until business is completed.

ADDRESSES: These meetings will be held online. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jessi Doerpinghaus, Staff Officer, Pacific Council; telephone: (503) 820-2415.

SUPPLEMENTARY INFORMATION: The primary purpose of these meetings is for the GAP, STT, HC, and SAS to prepare for the November 2023 Pacific Council meeting. The GAP, STT, HC, and SAS will discuss items related to the advisory body's particular management items and other matters on the Pacific Council's November agenda. The GAP, GMT, and EWG will meet during the GAP webinar to discuss matters related to the Council's fishery ecosystem plan initiative. No management actions will be decided by the GAP, GMT, EWG, STT, HC, or SAS. The GAP, GMT, EWG, STT, HC, and SAS recommendations will be considered by the Council at their November or March Council (ecosystem matters) meetings. A detailed agenda for each of the GAP, STT, HC, and SAS webinars will be available on the Pacific Council's website prior to the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 28, 2023.
Rey Israel Marquez,
Acting Deputy Director, Office of Sustainable Fisheries, National Marine Fisheries Service.

[FR Doc. 2023-21843 Filed 10-2-23; 8:45 am]

BILLING CODE 3510-22-P